DEPARTMENT OF HOUSING AND URBAN DEVELOPMENT

[Docket No. FR 5832-N-05]

60-Day Notice of Proposed Information Collection: Neighborhood Stabilization Program 2 (NSP2) Reporting

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 31, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms for other available information. Persons with hearing or speech impairments may access this number through TTY by calling the toll-free Federal Relay Service at (800) 877-8339.

FOR FURTHER INFORMATION CONTACT: Stanley Gimont, Director, Office of Block Grant Assistance, at (202) 708-3587. Department of Housing and Urban Development, 451 7th Street SW., Washington, DC 20410; email Stanley.Gimont@hud.gov telephone 202-402-4559. This is not a toll free number. Persons with hearing or speech impairments my access this number through TTY by calling the toll-free Federal Relay Service at (800) 877-8339. Copies of available documents submitted to OMB may be obtained from Ms. Pollard.

SUPPLEMENTARY INFORMATION: This notice informs the public that HUD is seeking approval from OMB for the information collection described in Section A.

Title of Information Collection: Neighborhood Stabilization Program 2 (NSP2) Reporting.

OMB Approval Number: 2506-0185.

Type of Request: Extension of previously approved collection.

Form Number: N/A.

Description of the need for the information and proposed use: This information describes the reporting and recordkeeping requirements of the Neighborhood Stabilization Program 2 (NSP2). The data required includes program level, project level and beneficiary level information collected and reported on by NSP2 grantees. The data identifies who benefits from the NSP2 program and how statutory requirement are satisfied. The respondents are State, local government, non-profit and consortium applicants.

Respondents (i.e. affected public): NSP2 grantees are units of state and local governments, non-profits and consortium members.

Estimated Number of Respondents: 62.

Estimated Number of Responses: 62.

Frequency of Response: Annually.

Average Hours per Response: 2923.

Total Estimated Burdens: 2,923.

Estimation of the total numbers of hours needed to prepare the Information collection including number of respondents, frequency of response, and hours of response:

The following tables demonstrate the estimated paperwork burden for recipients in the reporting processes. The deadline for the expenditure of NSP2 funds equivalent to the original award amount is February 11, 2013. Following the expenditure deadline, grantees will have the option of requesting closeout of their grant. Post-closeout, grantees will be required to report annually on affordability restriction certifications and program income (PI), if more than $250,000 of PI is generated in a program year. The following three tables show burden hours based on HUD's estimates of grantees requesting and completing closeout, and thus, reflect different burden hours for each of the three fiscal years covered by this collection. The total annualized burden hours requested are 6,082.

Neighborhood Stabilization Program
Description of information collection | Number of respondents | Number of responses | Total number of responses | Hours per response | Total hours | Cost per response | Total cost
(Year 1)
Online Quarterly Reporting via DRGR | 56 | 4 | 224 | 4 | 896 | $96.40 | $86,374
DRGR voucher submissions | 56 | 38 | 2102 | 0.18 | 378 | $4 | 1,642
Total Paperwork Burden | N/A | 42 | 2326 | N/A | 16,597 | N/A | 88,016
(Year 2)
Online Quarterly Reporting via DRGR | 42 | 4 | 168 | 4 | 672 | $96.40 | 64,781
Quarterly Voucher Submissions | 42 | 38 | 1596 | 0.18 | 287 | 4 | 1,246
Annual Reporting via DRGR/IDIS | 14 | 1 | 14 | 3 | 42 | 72.30 | 3,037
Annual Income Certification Reporting | 14 | 1 | 14 | 3 | 42 | 72.30 | 3,037
Total Paperwork Burden | N/A | 10 | 1792 | N/A | 1043 | NA | 72,100
(Year 3)
Online Quarterly Reporting via DRGR | 22 | 4 | 88 | 4 | 352 | $96.40 | 33,933
Annual Reporting via DRGR/IDIS | 34 | 1 | 34 | 4 | 136 | 96.40 | 13,110
Quarterly Voucher Submissions | 22 | 4 | 88 | 0.18 | 15.84 | 4.34 | 69
Annual Income Certification Reporting | 34 | 1 | 34 | 3.00 | 102 | 72.30 | 7,375
Total Paperwork Burden | N/A | 10 | 244 | N/A | 606 | NA | 54,487

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority

Section 3507 of the Paperwork Reduction Act of 1995, 44 U.S.C. Chapter 35.

Dated: June 23, 2015.
Harriet Tregoning,
Principal Deputy Assistant Secretary for Community Planning and Development.

[FR Doc. 2015-16071 Filed 6-29-15; 8:45 am]

BILLING CODE 4210-67-P